DEPARTMENT OF DEFENSE

Defense Finance and Accounting Service; Privacy Act of 1974; System of Records

AGENCY: Defense Finance and Accounting Service, DOD.

ACTION: Notice of New Systems of Records.

SUMMARY: The Defense Finance and Accounting Service proposes to add a system of records notice to its inventory of record systems subject to the Privacy Act of 1974, (5 U.S.C. 552a), as amended.

DATES: This action will be effective without further notice on December 30, 2002 unless comments are received that would result in a contrary determination.

ADDRESSES: FOIA/PA Program Manager, Office of General Counsel, Defense Finance and Accounting Service, 6760 E. Irvington Place, Denver, CO 80279-8000.

FOR FURTHER INFORMATION CONTACT: Ms. Linda Krabbenhoft at (303) 676-7514.

SUPPLEMENTARY INFORMATION: The complete inventory of Defense Finance and Accounting Service records system notices subject to the Privacy Act of 1974 (5 U.S.C. 552a), as amended, have been published in the Federal Register and are available from the address above.

The proposed system report, as required by 5 U.S.C. 552a(r) of the Privacy Act, was submitted on November 13, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: November 18, 2002.
Patricia L. Toppings,
Alternate OSD Federal Register Liaison Officer, Department of Defense.

T7330

System name:

DFAS Payroll Locator File System (PLFS).

System location:

Defense Finance and Accounting Service—Cleveland, 1240 East Ninth Street, PO Box 998002, Cleveland, OH 44199-8002.

Categories of individuals covered by the system:

Any individual who is paid by the Defense Finance and Accounting Service is in this payroll locator file.

Categories of records in the System:

The locator file contains the individual's name, Social Security Number, and payroll office.

Authority for maintenance of the System:

5 U.S.C. 301, Departmental Regulations; DoD Financial Management Regulation 7000.14-R, Volumes 7A, 7B, 7C, 8, and 13; and E.O. 9397 (SSN).

Purpose(s):

This system of records is being established for the purpose of providing the Department of Defense with a single locator file that identifies those individuals paid by the Defense Finance and Accounting Service, the individual's employment status, and their payroll office location.

All records in this system are subject to use in authorized computer matching programs within the Department of Defense and with other Federal agencies or non-Federal agencies as regulated by the Privacy Act of 1974, as amended, (5 U.S.C. 552a).

Routine uses of records maintained in the system, including categories of users and the purposes of such uses:

In addition to those disclosures generally permitted under 5 U.S.C. 552a(b) of the Privacy Act, these records or information contained therein, may specifically be disclosed outside the DoD as a routine use pursuant to 5 U.S.C. 552a(b)(3) as follows:

To the U.S. Treasury for the purpose of effecting salary offset procedures under the provisions of 5 U.S.C. 5514, against a person who owes a debt to the U.S. Government.

The DoD “Blanket Routine Uses” published at the beginning of the DFAS compilation of systems of records notices apply to this system.

Policies and practices for storing, retrieving, accessing, retaining, and disposing of records in the system:

Storage:

Records are maintained on electronic media.

Retrievability:

Retrieved by individual's name and Social Security Number.

Safeguards:

Records are accessed by persons responsible for servicing the records and others who are authorized by the DFAS systems administrator at DFAS Cleveland, to use the record system in performance of their official duties. records are stored in secured office buildings protected by guards and controlled by screening of personnel and the registration of visitors.

Retention and disposal:

Disposition pending (until National Archives and Records Administration has approved the retention and disposal schedule, treat records as permanent).

System manager(s) and address:

Assistant General Counsel, Garnishment Operations, Defense Finance and Accounting Service—Cleveland, 1240 East Ninth Street, PO Box 998002, Cleveland, OH 44199-8002.

Notification procedure:

Individuals seeking to determine whether information about themselves is contained in this system of records should address written inquiries to the Privacy Act Officer, Defense Finance and Accounting Service—Cleveland, 1240 East Ninth Street, Cleveland, OH 44199-8006.

Individuals should provide their full name and Social Security Number.

Record access procedures:

Individuals seeking access to information about themselves contained in this system of records should address written inquires to Privacy Act Officer, Defense Finance and Accounting Service—Cleveland, 1240 East Ninth Street, Cleveland, OH 44199-8006.

Individuals should provide their full name and Social Security Number.

Contesting record procedures:

The DFAS rules for accessing records, for contesting contents and appealing initial agency determinations are published in DFAS Regulation 5400.11-R; 32 CFR part 324; or may be obtained from the Privacy Act Officer at any DFAS Center.

Records source categories:

Defense Finance and Accounting Service payroll systems.

Exemptions claimed for the system:

None.

[FR Doc. 02-29818 Filed 11-27-02; 8:45 am]

BILLING CODE 5001-08-P